DEPARTMENT OF COMMERCE

International Trade Administration

[A-570-601]

Tapered Roller Bearings and Parts Thereof, Finished and Unfinished, from the People's Republic of China: Final Results of 2001-2002 Administrative Review and Partial Rescission of Review

AGENCY: Import Administration, International Trade Administration, Department of Commerce.

ACTION: Notice of Final Results of 2001-2002 Administrative Review and Partial Rescission of the Review.

SUMMARY: We have determined that sales of tapered roller bearings and parts thereof, finished and unfinished, from the People's Republic of China, were made below normal value during the period June 1, 2001, through May 31, 2002. We are also rescinding the review, in part, in accordance with 19 CFR § 351.213(d)(3).

Based on our review of comments received and a reexamination of surrogate value data, we have made certain changes in the margin calculations of all of the reviewed companies. Consequently, the final results differ from the preliminary results. The final weighted-average dumping margins for these firms are listed below in the section entitled “Final Results of the Review.” Based on these final results of review, we will instruct the U.S. Customs and Border Protection to assess antidumping duties based on the difference between the export price and normal value on all appropriate entries.

EFFECTIVE DATE: December 18, 2003.

FOR FURTHER INFORMATION CONTACT: S. Anthony Grasso or Andrew R. Smith, Group 1, Office I, Antidumping/Countervailing Duty Enforcement, Import Administration, International Trade Administration, U.S. Department of Commerce, 14th Street and Constitution Avenue NW, Washington, DC 20230; telephone (202) 482-3853 or (202) 482-1276, respectively.

SUPPLEMENTARY INFORMATION:

Background

On February 14, 2003, the Department published the preliminary results of this review of tapered roller bearings and parts thereof, finished and unfinished (“TRBs”) from the People's Republic of China (“PRC”). See Tapered Roller Bearings and Parts Thereof, Finished and Unfinished, From the People's Republic of China: Preliminary Results of 2001-2002 Administrative Review and Partial Rescission of Review, 68 FR 7500 (February 14, 2003) (“Preliminary Results”). The period of review (“POR”) is June 1, 2001, through May 31, 2002. This review covers the following producers or exporters (referred to collectively as “the respondents”): Wanxiang Group Corporation (“Wanxiang”), China National Machinery Import & Export Corporation (“CMC”), Tianshui Hailin Import and Export Corporation (“Hailin”), Luoyang Bearing Corporation (Group) (“Luoyang”), Liaoning MEC Group Co. Ltd. (“Liaoning”), Peer Bearing Company - Changshan (“CPZ”), and Yantai Timken Co., Ltd. (“Yantai Timken”)

We invited parties to comment on the Preliminary Results. On March 17, 2003, we received case briefs from the Timken Company (“the petitioner”), CPZ, and Yantai Timken. On March 24, 2003, the Timken Company and Yantai Timken submitted rebuttal briefs.

The Department has conducted this administrative review in accordance with section 751 of the Tariff Act of 1930, as amended (“the Act”).

Scope of Review

Merchandise covered by this review is TRBs from the PRC; flange, take up cartridge, and hanger units incorporating tapered roller bearings; and tapered roller housings (except pillow blocks) incorporating tapered rollers, with or without spindles, whether or not for automotive use. This merchandise is currently classifiable under the Harmonized Tariff Schedule of the United States (“HTSUS”) item numbers 8482.20.00, 8482.91.00.50, 8482.99.30, 8483.20.40, 8483.20.80, 8483.30.80, 8483.90.20, 8483.90.30, 8483.90.80, 8708.99.80.15, and 8708.99.80.80. Although the HTSUS item numbers are provided for convenience and customs purposes, the written description of the scope of the order and this review is dispositive.

Rescission of Review in Part

As noted in the Preliminary Results, on September 10, 2002, Hailin, Wanxiang, Luoyang, Liaoning, and CMC withdrew their requests for review. The petitioner did not request reviews of any of these companies. Therefore, pursuant to 19 CFR § 351.213(d)(1), because these companies withdrew their requests for review within 90 days of the date of publication of the notice of initiation of this review and no other party requested a review of these companies, we are rescinding the review with respect to Hailin, Wanxiang, Luoyang, Liaoning, and CMC.

Use of Facts Otherwise Available

As discussed in detail in the Preliminary Results, we have determined that companies which did not respond to the Department's questionnaire in this proceeding should not receive separate rates and, thus, are viewed as part of the PRC-wide entity. Moreover, as noted in the Preliminary Results, we determine that, in accordance with sections 776(a) and (b) of the Act, the use of adverse facts available is appropriate for companies that did not respond to our requests for information. No party in this proceeding has commented on these issues since the publication of the Preliminary Results. Thus, for these final results, we have continued to assign the rate of 33.18 percent to companies that are part of the PRC-entity.

Analysis of Comments Received

All issues raised in the case and rebuttal briefs by parties to this review are addressed in the “Issues and Decision Memorandum” from Jeffrey May, Deputy Assistant Secretary, Import Administration, to James J. Jochum, Assistant Secretary, Import Administration, dated December 11, 2003 (“Decision Memorandum”), which is hereby adopted by this notice. Attached to this notice as an Appendix is a list of the issues that parties have raised and to which we have responded in the Decision Memorandum. Parties can find a complete discussion of all issues raised in this investigation and the corresponding recommendations in this public memorandum, which is on file in the Department's Central Records Unit, located in Room B-099 of the main Department building (“CRU”). In addition, a complete version of the Decision Memorandum can be accessed directly on the Internet at http://ia.ita.doc.gov/frn/ under the heading “China PRC.” The paper copy and electronic version of the Decision Memorandum are identical in content.

Changes Since the Preliminary Results

Based on our review of comments received and a reexamination of surrogate value data, we have made certain changes to the calculations for the final results. These changes are discussed in the following Comments in the Decision Memorandum or in the referenced final calculation memoranda for particular companies:

All Companies

Certain adjustments were made to the overhead, SG&A, and profit ratios. See Decision Memorandum at Comment 5.

CPZ

In the Preliminary Results we used data on Japanese exports to India to value the hot-rolled alloy steel used by CPZ to manufacture the subject merchandise. For these final results, we revised this surrogate value. Instead, we relied on data for Japanese exports to Indonesia to value the hot-rolled alloy steel used to manufacture the subject merchandise. See Decision Memorandum at Comment 3 and the Memorandum from Team to Susan Kuhbach: “Factors of Production Values Used for the Final Results,” dated December 11, 2003.

Yantai Timken

We revised Yantai Timken's final results calculations to correct several minor reporting and clerical errors noted by Yantai Timken in its case brief. See Memorandum from Case Analyst to File, “Final Results Calculation Memorandum for Yantai Timken Company, Ltd.” (“Yantai Timken's Calc Memo”), dated December 11, 2003, which is on file in the Department's CRU.

As noted in the Preliminary Results, and consistent with our treatment of subsidized inputs in TRBs XIV, TRBs XIII, and TRBs XII, we do not use the prices paid by PRC producers of TRBs for inputs that we have a reason to believe or suspect are subsidized. Accordingly, for a particular input that Yantai Timken purchased from a market economy country, for these final results, we have used a surrogate value instead of the market price paid by Yantai Timken and used in the Preliminary Results. (See Yantai Timken's Calc Memo for a more detailed discussion of this issue.)

Final Results of Review

We determine that the following dumping margins exist for the period June 1, 2000, through May 31, 2001:

Exporter/manufacturer | Weighted-average margin percentage
Peer Bearing Company - Changshan | 0.00
Yantai Timken Co., Ltd. | 18.75
PRC-wide rate | 33.18

Assessment Rates

In accordance with 19 CFR § 351.212(b)(1), we have calculated importer (or customer)-specific assessment rates for the merchandise subject to this review. To determine whether the duty assessment rates were de minimis, in accordance with the requirement set forth in 19 CFR § 351.106(c)(2), we calculated importer (or customer)-specific ad valorem rates by aggregating the dumping margins calculated for all U.S. sales to that importer (or customer) and dividing this amount by the total value of the sales to that importer (or customer). Where an importer (or customer)-specific ad valorem rate was greater than de minimis, we calculated a per unit assessment rate by aggregating the dumping margins calculated for all U.S. sales to that importer (or customer) and dividing this amount by the total quantity sold to that importer (or customer). Where an importer (or customer )-specific ad valorem rate was de minimis, we will order the Customs Service to liquidate without regard to antidumping duties.

All other entries of the subject merchandise during the POR will be liquidated at the antidumping duty rate in place at the time of entry.

The Department will issue appropriate assessment instructions directly to U.S. Customs and Border Protection (“CBP”) within 15 days of publication of these final results of review.

Cash Deposit Requirements

The following cash deposit rates will be effective upon publication of these final results for all shipments of TRBs from the PRC entered, or withdrawn from warehouse, for consumption on or after the publication date of this notice, as provided for by section 751(a)(1) of the Act: (1) the cash deposit rates for the reviewed companies will be the rates shown above except that, for firms whose weighted-average margins are less than 0.5%, and therefore, de minimis, the Department shall require no deposit of estimated antidumping duties; (2) for a company previously found to be entitled to a separate rate and for which no review was requested, the cash deposit rate will be the rate established in the most recent review of that company; (3) for all other PRC exporters of subject merchandise, the rate will be the PRC country-wide rate, which is 33.18 percent; and (4) for non-PRC exporters of subject merchandise from the PRC, the cash deposit rate will be the rate applicable to the PRC exporter that supplied that exporter. These deposit rates shall remain in effect until publication of the final results of the next administrative review.

Notification to Importers

This notice also serves as a final reminder to importers of their responsibility under 19 CFR § 351.402(f) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (“APO”) of their responsibility concerning the return or destruction of proprietary information disclosed under APO in accordance with 19 CFR § 351.305, which continues to govern business proprietary information in this segment of the proceeding. Timely written notification of the return/destruction of APO materials or conversion to judicial protective order is hereby requested. Failure to comply with the regulations and terms of an APO is a violation which is subject to sanction.

We are issuing and publishing this determination and notice in accordance with sections section 751(a)(1) and 771(i) of the Act.

Dated: December 11, 2003.
James J. Jochum,
Assistant Secretary for Import Administration.

Appendix

List of Comments and Issues in the Decision Memorandum

Comment 1: Peer Bearing Company - Changshan's (“CPZ”) Market Economy Steel

Comment 2: Valuing the Steel Input Used by CPZ to Manufacture Cups and Cones

Comment 3: Cups and Cones Surrogate Value: Japanese Exports to India Versus to Indonesia

Comment 4: Correct the Surrogate Value Calculated Using Japanese Exports to India

Comment 5: Financial Ratios: HMT's Financial Records and Calculate Using a Simple Average

Comment 6: Discontinue Excluding Negative Dumping Margins

Comment 7: Amelioration of the Anomalous Situation Arising from the Petitioner Owning 100% of Yantai Timken

Comment 8: Yantai Timken Reported Steel Values Clerical Error

Comment 9: Yantai Timken Packing Values Clerical Error

Comment 10: Yantai Timken Part-Specific Costs

[FR Doc. 03-31223 Filed 12-17-03; 8:45 am]

BILLING CODE 3510-DS-S